DEPARTMENT OF TRANSPORTATION

Federal Highway Administration

Environmental Impact Statement; Saint Louis County, MN

AGENCY: Federal Highway Administration (FHWA), DOT.

ACTION: Notice of Intent.

SUMMARY: The FHWA is issuing this notice to advise the public that an Environmental Impact Statement (EIS) will be prepared to respond to the terms of the existing Trunk Highway (TH) 53 easement across the United Taconite mine.

FOR FURTHER INFORMATION CONTACT: Philip Forst, Environmental Specialist, Federal Highway Administration, 380 Jackson Street, Suite 500, Saint Paul, Minnesota 55101, Telephone (651) 291-6110; or Brian Larson, Project Manager, Minnesota Department of Transportation (District 1), 1123 Mesaba Avenue, Duluth, Minnesota 55811, Telephone: (218) 725-2745.

SUPPLEMENTARY INFORMATION: The Minnesota Department of Transportation was given notice by United Taconite on May 5, 2010, that easement rights for a portion of existing Highway 53 between Virginia and Eveleth are being terminated. The FHWA, in cooperation with the Minnesota Department of Transportation (Mn/DOT) will prepare an EIS on a proposal to address termination of the easement rights by United Taconite. The EIS will evaluate the social, economic, transportation and environmental impacts of alternatives, including (1) No-build, (2) Purchasing title and possession of the existing TH 53 alignment, (3) Construction on partial new alignment, and (4) Construction on new alignment.

The Scoping Document/Draft Scoping Decision Document is anticipated to be published in late 2011. A press release will be published to inform the public of the document's availability. Copies of Scoping Document will be published on a Mn/DOT Web site as well as distributed to agencies, interested persons and libraries for review to aid in identifying issues and analyses to be contained in the EIS. A thirty-day comment period for review of the document will be provided to afford an opportunity for all interested persons, agencies and groups to comment on the proposed action. A public scoping meeting will also be held during the comment period. Public notice will be give for the time and place of the meeting. The Scoping Decision Document will be published after the public comment period has closed.

A Draft EIS will be prepared based on the outcome of and closely following the scoping process. The Draft EIS will be available for agency and public review and comment. In addition, a public hearing will be held following completion of the Draft EIS. Public notice will be given for the time and place of the public hearing on the Draft EIS. Coordination has been initiated and will continue with appropriate Federal, State and local agencies and private organizations and citizens who have previously expressed or are known to have an interest in the proposed action.

This project is utilizing a National Environmental Policy Act (NEPA)/404 merger process to seek concurrence by multiple Federal agencies on the project's purpose and need, range of alternatives to be considered, range of alternatives to be evaluated in detail, and selection of a preferred alternative. In addition to the Federal Highway Administration as the lead Federal Agency for this NEPA effort, the NEPA/404 merger process includes the following Federal agencies: United States Army Corps of Engineers, The United States Environmental Protection Agency.

To ensure that the full range of issues related to this proposed action are addressed and all significant issues identified, comments and suggestions are invited from all interested parties. Comments or questions concerning the proposed action and the EIS should be directed to the FHWA at the address provided above.

(Catalog of Federal Domestic Assistance Program Number 20.205, Highway Planning and Construction. The regulations implementing Executive Order 12372 regarding intergovernmental consultation on Federal programs and activities apply to this program.)

Issued on: August 1, 2011.
Philip Forst,
Environmental Specialist, Federal Highway Administration.

[FR Doc. 2011-20354 Filed 8-9-11; 8:45 am]

BILLING CODE 4910-22-P